DEPARTMENT OF TRANSPORTATION

Federal Aviation Administration

14 CFR Part 39

[Docket No. FAA-2016-6418; Directorate Identifier 2015-NM-158-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A330-200 Freighter, -200, and -300 series airplanes; and Airbus Model A340-200, -300, -500, and -600 series airplanes. This proposed AD was prompted by reports of fuel leaking through fuel pump electrical connectors and fuel pump electrical connector damage caused by the build-up of moisture behind the electrical connector. Electrical connectors that become damaged by moisture can create an ignition source and a fuel leak. This proposed AD would require an inspection of the fuel pumps to identify their part numbers and replacement of affected pumps. We are proposing this AD to prevent a potential ignition source and a fuel leak due to damaged fuel pump electrical connectors. This condition creates a flammability risk in an area adjacent to the fuel tank.

DATES: We must receive comments on this proposed AD by June 23, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE., Washington, DC 20590.

• Hand Delivery: U.S. Department of Transportation, Docket Operations,M-30, West Building Ground Floor, Room W12-140, 1200 New Jersey Avenue SE., Washington, DC, between 9 a.m. and 5 p.m., Monday through Friday, except Federal holidays.

For service information identified in this NPRM, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-6418; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Comments Invited

We invite you to send any written relevant data, views, or arguments about this proposed AD. Send your comments to an address listed under the ADDRESSES section. Include “Docket No. FAA-2016-6418; Directorate Identifier 2015-NM-158-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA AD 2015-0194, dated September 22, 2015, to correct an unsafe condition for all Airbus Model A330-200 Freighter, -200, and -300 series airplanes; and Airbus Model A340-200, -300, -500, and -600 series airplanes. The MCAI states:

Operators reported cases of fuel leak through fuel pump electrical connectors. Subsequent investigation revealed fuel pump electrical connector damage caused by moisture build up behind the electrical connector.

This condition, if not detected and corrected, could create concurrently an ignition source and fuel leak as a result of a single failure, resulting in exposure to a flammability risk in an adjacent area to the fuel tank.

To address this unsafe condition, Airbus published Service Bulletins (SB) A330-28-3127, SB A340-28-4138 and SB A340-28-5060, providing inspection/identification instructions, and instructions for replacement of the fuel pumps.

For the reasons described above, this [EASA] AD requires identification and replacement of the affected fuel pumps.

You may examine the MCAI in the AD docket on the Internet at http://www.regulations.gov by searching for and locating Docket No. FAA-2016-6418.

Related Service Information Under 1 CFR Part 51

Airbus has issued the following service information:

• Airbus Service Bulletin A330-28-3127, Revision 01, dated September 24, 2015.

• Airbus Service Bulletin A340-28-4138, Revision 01, dated September 24, 2015.

• Airbus Service Bulletin A340-28-5060, Revision 01, dated September 24, 2015.

The service information describes procedures to identify and replace affected fuel pumps with serviceable fuel pumps. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 99 airplanes of U.S. registry.

We also estimate that it will take about 4 work-hours per product to comply with the basic requirements of this proposed AD. The average labor rate is $85 per work-hour. Based on these figures, we estimate the cost of this proposed AD on U.S. operators to be $33,660, or $340 per product.

In addition, we estimate that any necessary follow-on actions would take about 17 work-hours and require parts costing $10,400, for a cost of $11,845 per product. We have no way of determining the number of aircraft that might need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2016-6418; Directorate Identifier 2015-NM-158-AD.

(a) Comments Due Date

We must receive comments by June 23, 2016.

(b) Affected ADs

None.

(c) Applicability

This AD applies to Airbus Model A330-223F and -243F airplanes; A330-201, -202, -203, -223, and -243 airplanes; A330-301, -302, -303, -321, -322, -323, -341, -342, and -343 airplanes; and Airbus Model A340-211, -212, and -213 airplanes; A340-311, -312, and -313 airplanes; A340-541 airplanes; and A340-642 airplanes, certificated in any category, all manufacturer serial numbers.

(d) Subject

Air Transport Association (ATA) of America Code 28, Fuel.

(e) Reason

This AD was prompted by reports of fuel leaking through fuel pump electrical connectors and fuel pump electrical connector damage caused by the build-up of moisture behind the electrical connector. Electrical connectors that become damaged by moisture can create an ignition source and a fuel leak. We are issuing this AD to prevent a potential ignition source and a fuel leak due to damaged fuel pump electrical connectors. This condition creates a flammability risk in an area adjacent to the fuel tank.

(f) Compliance

Comply with this AD within the compliance times specified, unless already done.

(g) Identify Part Numbers

Within 48 months after the effective date of this AD, inspect each fuel pump to identify the part number (P/N) in accordance with the Accomplishment Instructions of Airbus Service Bulletin A330-28-3127, Revision 01, dated September 24, 2015; Airbus Service Bulletin A340-28-4138, Revision 01, dated September 24, 2015; or Airbus Service Bulletin A340-28-5060, Revision 01, dated September 24, 2015; as applicable to airplane type. A review of airplane delivery or maintenance records is acceptable in lieu of this inspection if the part number of the fuel pump can be conclusively determined from that review.

(h) Modification

If, during the inspection required by paragraph (g) of this AD, it is determined that an affected fuel pump is installed: Within the compliance time specified in paragraph (h)(1) or (h)(2) of this AD, depending on the configuration of the affected fuel pumps installed, replace each affected fuel pump with a serviceable fuel pump in accordance with the Accomplishment Instructions of Airbus Service Bulletin A330-28-3127, Revision 01, dated September 24, 2015; Airbus Service Bulletin A340-28-4138, Revision 01, dated September 24, 2015; or Airbus Service Bulletin A340-28-5060, Revision 01, dated September 24, 2015; as applicable to airplane type.

(1) For affected fuel pumps that have a part number or combination of part numbers that are specified in paragraphs (h)(1)(i) through (h)(1)(vi) of this AD: Do the replacement within 72 months after the effective date of this AD.

(i) All of the affected fuel pumps haveP/N 568-1-28300-001.

(ii) All of the affected fuel pumps haveP/N 568-1-28300-002.

(iii) The affected fuel pumps have a combination of P/Ns 568-1-28300-001 and 568-1-28300-002.

(iv) The affected fuel pumps have a combination of P/Ns 568-1-28300-001 and 568-1-28300-101.

(v) The affected fuel pumps have a combination of P/Ns 568-1-28300-002 and 568-1-28300-101.

(vi) The affected fuel pumps have a combination of P/Ns 568-1-28300-001, 568-1-28300-002, and 568-1-28300-101.

(2) For affected fuel pumps that have a part number or combination of part numbers that are specified in paragraphs (h)(2)(i) through (h)(2)(iii) of this AD: Do the replacement within 96 months after the effective date of this AD.

(i) All of the affected fuel pumps have P/N 568-1-28300-100.

(ii) All of the affected fuel pumps have P/N 568-1-28300-101.

(iii) The affected fuel pumps have a combination of P/Ns 568-1-28300-100 and 568-1-28300-101.

(i) Definitions

(1) For the purpose of this AD, an “affected fuel pump” is defined as any pump having P/N 568-1-28300-001, 568-1-28300-002, 568-1-28300-100, or 568-1-28300-101.

(2) For the purpose of this AD, a “serviceable fuel pump” is a pump having a part number not listed in paragraph (i)(1) of this AD.

(j) No Reporting Requirement

Although Airbus Service Bulletin A330-28-3127, Revision 01, dated September 24, 2015; Airbus Service Bulletin A340-28-4138, Revision 01, dated September 24, 2015; or Airbus Service Bulletin A340-28-5060, Revision 01, dated September 24, 2015, specifies to submit certain information to the manufacturer, and specifies that action as “RC” (Required for Compliance), this AD does not include that requirement.

(k) Parts Installation Prohibition

After the identification of the fuel pump part numbers as required by paragraph (g) of this AD, comply with the prohibition required by paragraph (k)(1) or (k)(2) of this AD, as applicable.

(1) For an airplane that does not have an affected fuel pump installed: After the identification of the fuel pump part numbers as required by paragraph (g) of this AD, do not install an affected fuel pump.

(2) For an airplane that has an affected fuel pump installed: After modification of an airplane as required by paragraph (h) of this AD, no person may install an affected fuel pump on any airplane.

(l) Credit for Previous Actions

This paragraph provides credit for actions required by paragraphs (g) and (h) of this AD, if those actions were performed before the effective date of this AD using service information included in paragraphs (l)(1), (l)(2), and (l)(3) of this AD, which are not incorporated by reference in this AD.

(1) Airbus Service Bulletin A330-28-3127 dated July 14, 2015.

(2) Airbus Service Bulletin A340-28-4138 dated July 14, 2015.

(3) Airbus Service Bulletin A340-28-5060 dated July 14, 2015.

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone: 425-227-1138; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Required for Compliance (RC): Except as provide by paragraph (j) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Continuing Airworthiness Information (MCAI) EASA AD 2015-0194, dated September 22, 2015, for related information. You may examine the MCAI on the Internet at http://www.regulations.gov by searching for and locating Docket No. FAA-2016-6418.

(2) For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet: http://www.airbus.com. You may view this service information at the FAA, Transport Airplane Directorate, 1601 Lind Avenue SW., Renton, WA. For information on the availability of this material at the FAA, call 425-227-1221.

Issued in Renton, Washington, on April 28, 2016.
Dionne Palermo,
Acting Manager, Transport Airplane Directorate, Aircraft Certification Service.

[FR Doc. 2016-10633 Filed 5-6-16; 8:45 am]

BILLING CODE 4910-13-P